DEPARTMENT OF HEALTH AND HUMAN SERVICES

Food and Drug Administration

[FDA 225-04-8006]

Memorandum of Understanding Between the Department of Health and Human Services of the United States Through the Food and Drug Administration and the Ministry of Maritime Affairs and Fisheries of the Republic of Korea Covering the Safety and Quality of Fresh and Frozen Aquacultured Molluscan Shellfish Exported From the Republic of Korea to the United States of America

AGENCY: Food and Drug Administration, HHS.

ACTION: Notice.

SUMMARY: The Food and Drug Administration (FDA) is providing notice of a memorandum of understanding (MOU) between the Department of Health and Human Services of the United States of America through the Food and Drug Administration (FDA) and the Ministry of Maritime Affairs and Fisheries of the Republic of Korea. This understanding is in keeping with the beneficial and cooperative work conducted under the terms of a 1988 MOU concerning the safety and quality of molluscan shellfish exported to the United States from the Republic of Korea. The purpose of the MOU is to establish the set of guidelines to be implemented for assuring that molluscan shellfish exported from the Republic of Korea and offered for import into the United States of America are safe for human consumption and are harvested, processed, transported, and labeled in accordance with the provision of the U.S. National Shellfish Sanitation Program and the applicable requirements of the U.S. Federal Food and Drug and Cosmetic Act, the U.S. Public Health Service Act, the U.S. Fair Packaging and Labeling Act, and title 21 of the U.S. Code of Federal Regulations.

DATES: The agreement became effective October 28, 2003.

FOR FURTHER INFORMATION CONTACT: Paul W. Distefano, Center for Food Safety and Applied Nutrition (HFS-417), Food and Drug Administration, College Park, MD 20740, 301-436-1410.

SUPPLEMENTARY INFORMATION: In accordance with 21 CFR 20.108(c), which states that all written agreements and MOUs between FDA and others shall be published in the Federal Register, the agency is publishing notice of this MOU.

Dated: March 24, 2004.
Jeffrey Shuren,
Assistant Commissioneer for Policy.

BILLING CODE 4160-01-S

[FR Doc. 04-8443 Filed 4-14-04; 8:45 am]

BILLING CODE 4160-01-C